DEPARTMENT OF COMMERCE

Department of Commerce: Industry Outreach for Climate Change Negotiations Under the UNFCCC

AGENCY: International Trade Administration, Department of Commerce.

ACTION: Notice of meeting.

SUMMARY: The U.S. Department of Commerce (DOC) will host a half-day roundtable for industry participants during which senior U.S. government officials will outline the draft negotiation text of a new agreement under the United Nations Framework Convention on Climate Change (UNFCCC), provide updates on recent developments, and solicit individual input from participants. The purpose of the industry roundtable is to allow private sector stakeholders, particularly industry and trade associations, to advise U.S. officials on the impact a new UNFCCC agreement could have on their respective operations and on associated commercial opportunities. The DOC anticipates additional outreach events will be held throughout the United States.

DATES: July 16, 2009.

ADDRESSES: To apply to participate in the roundtable, please contact Brian O'Hanlon, Office of Energy and Environmental Industries; Room 4053; U.S. Department of Commerce; 14th & Pennsylvania Avenue, NW.; Washington, DC 20230; 202-482-3492; brian.ohanlon@mail.doc.gov.

SUPPLEMENTARY INFORMATION:

Selection Criteria

DOC wishes to ensure a broad coverage of sectors likely to be impacted by potential U.S. commitments under the UNFCCC. Because space is limited, applicants should provide information regarding the impact an agreement under the UNFCCC may have on their industry. Participants will be selected according to whether their respective industry sectors are likely to be affected by any binding commitments on the United States as part of an agreement under the UNFCCC.

The United Nations Framework Convention on Climate Change—The UNFCCC was signed in 1992 in Rio de Janeiro, Brazil, and entered into force on March 21, 1994. Currently, 192 states have ratified the Convention, including the United States. The treaty requires national inventories of greenhouse gas emissions from developed countries, and encourages national action to stem greenhouse gas emissions and slow climate change. Developed nations also pledge to share technology and resources with developing nations.

Kyoto Protocol to the United Nations Framework Convention on Climate Change—The Kyoto Protocol was adopted in December 1997, entered into force on February 16, 2005, and has been ratified by 184 countries and the European Community. While the United States signed the document, the U.S. Senate has never ratified the treaty. The Kyoto Protocol sets binding emissions targets for 37 industrialized countries, includes mechanisms for measuring and reporting emissions, and provides for financing and technology assistance to developing countries. The Protocol will expire at the end of 2012.

Current UNFCCC Negotiations—Negotiations under the UNFCCC are underway to formulate a successor agreement to the Kyoto Protocol. The discussions have the goal of concluding an agreement in Copenhagen this December. Potential impacts on U.S. industrial competitiveness will be discussed during the upcoming roundtable include technology transfer, intellectual property, financing, and related commercial opportunities.

Dated: June 22, 2009.
Cheryl McQueen,
Acting Director, Office of Energy and Environmental Industries, U.S. Department of Commerce.

[FR Doc. E9-15049 Filed 6-25-09; 8:45 am]

BILLING CODE 3510-DR-P